DEPARTMENT OF THE INTERIOR

Fish and Wildlife Service

50 CFR Part 17

RIN 1018-AH06

Endangered and Threatened Wildlife and Plants: Reopening of Public Comment Period and Notice of Availability of Draft Economic Analysis for Proposed Designation of Critical Habitat for the Kootenai River Population of White Sturgeon

AGENCY: Fish and Wildlife Service, Interior.

ACTION: Proposed rule; reopening of public comment period and notice of availability of draft economic analysis.

SUMMARY: We, the U.S. Fish and Wildlife Service, announce the availability of the draft economic analysis for the proposed designation of critical habitat for the Kootenai River white sturgeon (Acipenser transmontanus). We also provide notice that the public comment period for the proposal is reopened to allow all interested parties to submit written comments on the proposal and draft economic analysis. Comments previously submitted during the original comment period need not be resubmitted as they will be incorporated into the public record and will be fully considered in the final determination on the proposal.

DATES: The original comment period ended on February 20, 2001. The comment period is hereby reopened until May 29, 2001. We must receive comments from all interested parties by the closing date. Any comments that we receive after the closing date will not be considered in the final decision on this proposal.

ADDRESSES: Copies of the economic analysis are available on the Internet at www.r1.fws.gov or by writing to or calling the Field Supervisor, Upper Columbia Fish and Wildlife Office, U.S. Fish and Wildlife Service, 11103 East Montgomery Drive, Spokane, Washington 99206; telephone 509-891-6839, facsimile 509-891-6748. Refer to the “Public Comments Solicited” section of this notice for instructions about submitting any written comments, information, and electronic mail (e-mail).

FOR FURTHER INFORMATION CONTACT: Bob Hallock, Upper Columbia Fish and Wildlife Office, at the above address; telephone 509-891-6839, facsimile 509-891-6748.

SUPPLEMENTARY INFORMATION:

Background

The Kootenai River population of the white sturgeon is one of 18 landlocked populations of white sturgeon known to occur in western North America. This population is restricted to approximately 270 river kilometers (km) (168 river miles (mi)) of the Kootenai River, which originates in Kootenay National Park in British Columbia, Canada. The river flows south into Montana, northwest into Idaho, then north through the Kootenai Valley into British Columbia, where it flows through Kootenay Lake and joins the Columbia River at Castlegar, British Columbia. The Kootenai River population of white sturgeon extends from Kootenai Falls, Montana, located 50 river km (31 river mi) below Libby Dam, Montana, downstream through Kootenay Lake to Corra Lynn Dam at the outflow from Kootenay Lake, British Columbia, Canada. A natural barrier, Bonnington Falls, downstream of Kootenay Lake, has isolated the Kootenai River white sturgeon since the last glacial advance roughly 10,000 years ago (Apperson and Anders 1991). Kootenai River white sturgeon occur in Idaho, Montana, and British Columbia. Approximately 45 percent of the species' range, based on river kilometers, is located within British Columbia. Apperson and Anders (1991) found that at least 36 percent of the sturgeon tracked during 1998 overwintered in Kootenay Lake, British, Columbia. They further believe that sturgeon do not commonly occur upstream of Bonners Ferry, Idaho.

The Kootenai River white sturgeon population is threatened by factors including hydropower operations, flood control operations, poor recruitment, loss of habitat, and possible contaminants (water quality impacts). For a more detailed discussion of the ecology of the Kootenai River population white sturgeon see the September 6, 1994, Federal Register notice (59 FR 45989) listing this population as endangered, and the September 30, 1999, Recovery Plan for the White Sturgeon (Acipenser transmontanus): Kootenai River Population (U.S. Fish and Wildlife Service, 1999). The final rule and the recovery plan incorporate the best available biological information on Kootenai River white sturgeon.

In the September 6, 1994, final rule listing the Kootenai River population of white sturgeon as endangered (59 FR 45989), we deferred designation of critical habitat as not then determinable. We believed there was insufficient biological information to accurately delineate that habitat essential to the species, and, in the absence of this delineation, the required analysis of impacts could not be completed accurately.

On December 21, 2000, we published in the Federal Register a proposal to designate critical habitat for this species (65 FR 80698). We are proposing an 18 river kilometer (11.2 miles) reach of the Kootenai River bed (below ordinary high water lines) near Bonners Ferry, Idaho, as critical habitat.

Section 4(b)(2) of the Act requires that the Secretary shall designate or revise critical habitat based upon the best available scientific and commercial data available and after taking into consideration the economic impact of specifying any particular area as critical habitat. We have prepared a draft economic analysis of the proposed critical habitat designation, and it is available at the Internet and mailing addresses listed above in the ADDRESSES section.

Public Comments Solicited

We have reopened the comment period at this time in order to accept the best and most current scientific and commercial data available regarding the proposed critical habitat and the draft economic analysis. We will accept comments during the reopened comment period. All previous comments and information submitted during the original comment period need not be resubmitted. If you wish to comment, you may submit your comments by any one of several methods:

1. You may submit written comments and information by mail to the Field Supervisor, Upper Columbia Fish and Wildlife Office, U.S. Fish and Wildlife Service, 11103 East Montgomery Drive, Spokane, Washington 99206. You may also submit written comments and information to us by facsimile at 509-891-6748.

2. You may send comments and information by electronic mail (e-mail) to: FW1SPOK-crithab-stur@r1.fws.gov.

Please submit e-mail comments as an ASCII file format and avoid the use of special characters and any form of encryption. Please also include “Attn: RIN 1018-AH06” and your name and return address in your e-mail message. If you do not receive a confirmation from the system that we have received your e-mail message, contact us directly by calling our Upper Columbia Fish and Wildlife Office at 509-891-6839.

3. You may hand-deliver written comments and information to our Upper Columbia Fish and Wildlife Office, 11103 East Montgomery Drive, Spokane, Washington.

Comments and materials received, as well as supporting documentation used in preparation of the proposed rule to designate critical habitat, will be available for public inspection, by appointment, during normal business hours at the above address.

Our practice is to make all comments, including names and home addresses of respondents, available for public review during regular business hours. Individual respondents may request that we withhold their home address from the rulemaking record, which we will honor to the extent allowable by law. If you wish for us to withhold your name and/or address, you must state this prominently at the beginning of your comments. However, we will not consider anonymous comments. We will make all submissions from organizations or businesses, and from individuals identifying themselves as representatives or officials of organizations or businesses, available for public inspection in their entirety.

References Cited

A complete list of all references cited in this document is available upon request from the Upper Columbia Fish and Wildlife Office (see ADDRESSES section).

Author

The primary author of this document is Bob Hallock (see ADDRESSES section).

Authority: The authority of this document is the Endangered Species Act of 1973 (16 U.S.C. 1531 et seq.).

Dated: March 14, 2001.
Rowan W. Gould,
Acting Regional Director, Region 1, U.S. Fish and Wildlife Service.

[FR Doc. 01-10379 Filed 4-25-01; 8:45 am]

BILLING CODE 4310-55-U